DEPARTMENT OF EDUCATION

Applications for New Awards; Technical Assistance and Dissemination To Improve Services and Results for Children With Disabilities—Model Demonstration Projects to Develop Equitable Family Engagement With Underserved Families of Children With Disabilities

AGENCY: Office of Special Education and Rehabilitative Services, Department of Education.

ACTION: Notice.

SUMMARY: The Department of Education (Department) is issuing a notice inviting applications for new awards for fiscal year (FY) 2024 for Model Demonstration Projects to Develop Equitable Family Engagement with Underserved Families of Children with Disabilities, Assistance Listing Number 84.326M. This notice relates to the approved information collection under OMB control number 1820-0028.

DATES:

Applications Available: February 14, 2024.

Deadline for Transmittal of Applications: April 24, 2024.

Deadline for Intergovernmental Review: June 24, 2024.

ADDRESSES: For the addresses for obtaining and submitting an application, please refer to our Common Instructions for Applicants to Department of Education Discretionary Grant Programs, published in the Federal Register on December 7, 2022 (87 FR 75045), and available at www.federalregister.gov/d/2022-26554.

FOR FURTHER INFORMATION CONTACT: Carmen Sanchez, U.S. Department of Education, 400 Maryland Avenue SW, Room 4A10, Washington, DC 20202. Telephone: (202) 987-0117. Email: carmen.sanchez@ed.gov.

If you are deaf, hard of hearing, or have a speech disability and wish to access telecommunications relay services, please dial 7-1-1.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priorities: This competition includes one absolute priority and, within that absolute priority, one competitive preference priority. In accordance with 34 CFR 75.105(b)(2)(v), the absolute priority is from allowable activities specified in or otherwise authorized in sections 663 and 681(d) of the Individuals with Disabilities Education Act (IDEA) (20 U.S.C. 1463 and 1481(d)).

Absolute Priority: For FY 2024 and any subsequent year in which we make awards from the list of unfunded applications from this competition, this priority is an absolute priority. Under 34 CFR 75.105(c)(3), we consider only applications that meet this priority.

This priority is:

Model Demonstration Projects to Develop Equitable Family Engagement with Underserved Families of Children with Disabilities.

Background

Model demonstrations to improve early intervention, educational, or transitional results for children with disabilities and their families have been authorized under the IDEA since the law's inception. For the purposes of this priority, a model is a set of existing evidence-based practices, including interventions and implementation strategies (i.e., core model components), that research suggests will improve outcomes for children, families, personnel, administrators, or systems, when implemented with fidelity. Model demonstrations involve investigating the degree to which a given model can be implemented and sustained in real-world settings, by staff employed in those settings, while achieving outcomes similar to those attained under research conditions.

The work of the proposed models is consistent with the Secretary's Supplemental Priorities, published in the Federal Register on December 10, 2021 (86 FR 70612), as well as “Raise the Bar: Lead the World”,¹ through its focus on promoting equity in student access to educational resources and opportunities; meeting student social, emotional, and academic needs; and strengthening cross-agency coordination and community engagement to advance systemic change. Proposed models may also address a competitive preference priority that builds on the absolute priority by being responsive to the focus in the First Lady's Joining Forces initiative ² whose mission is to support military families, including families of service members and veterans, caregivers, and survivors. The initiative includes a focus on military child education, and specifically advancing programming to support military-connected children in their classrooms and help ease the burdens created by the highly mobile military lifestyle. For military-connected children with disabilities this includes simplifying and streamlining the onboarding process into a new school system, facilitating the transfer of individualized education programs (IEPs) from students' previous schools into their new schools, and providing required services to children and families without disruptions in educational programming when there is a change in duty station. This focus is aligned with the Department's focus on supporting military-connected and other highly mobile children with disabilities outlined in a February 2022 Letter to State Directors of Special Education on Ensuring a High-Quality Education for Highly Mobile Children, which provided resources and guidance for States, school districts, school staff, parents, families, and others on ensuring that highly mobile children with disabilities receive required special education and related services designed to meet their unique needs in a timely manner.³

¹ www.ed.gov/raisethebar/.

² www.whitehouse.gov/joiningforces/.

³ See https://sites.ed.gov/idea/idea-files/letter-to-state-directos-of-special-education-on-ensuring-a-high-quality-education-for-highly-mobile-children-november-10-2022/.

Decades of research have shown the positive relationship between family engagement and improved outcomes for children (Fan & Chen, 2001; Henderson & Mapp, 2002; Hill & Tyson, 2009; Jeynes, 2005, 2007, 2012; Kim & Hill, 2015). The growing evidence base indicates that children with disabilities benefit when their families are systemically engaged in their education in ways that are responsive to the families' strengths, needs, cultures, and experiences. While not independently explored in the research, it stands to reason that systematic and responsive family engagement is particularly important when supporting military families with their unique strengths, needs, cultures, and experiences.

IDEA, through its emphasis on empowering parents to understand their rights and responsibilities under the law and by placing families at the center of the individualized education program process, has emphasized the importance of engaging families of children with disabilities. Furthermore, IDEA places families as vital partners with schools, districts, and States in creating systemic change through the development and implementation of comprehensive strategies to improve outcomes for children with disabilities (section 650(2) of IDEA; 20 U.S.C. 1450(c)).

Schools often have difficulty effectively supporting family engagement practices and instead focus on narrow ideas of family participation (e.g., participating in back-to-school nights or parent teacher organization fundraisers) that disengage many families, and particularly disempower and exclude underserved families of children with disabilities (Baquedano-Lopez et al., 2013; Doucet, 2011; Dyrness, 2009; Lareau & Horvat, 1999; Olivos, 2006; Xu, 2020). Family disempowerment and inequity, created when schools do not account for the lived realities of underserved families within their communities, mirrors the deep educational inequities in their children's experiences, (Buren et al., 2020) and can increase the disproportionate representation of underserved children in some disability categories, disproportionate discipline, and placement in more restrictive and segregated settings (Kramarczuk Voulgarides et al., 2017).

To support the engagement of underserved families, research points to the need to create ongoing, dynamic, and equitable collaborations that reorganize power structures, develop sustainable relationships (Ishimaru, 2020), and are culturally and linguistically responsive and trauma informed. Equitable collaborations between schools, underserved families, and their communities show promise in creating sustainable structural changes that improve educational outcomes for underserved children, including children with disabilities (Ishimaru, 2020).

To improve outcomes for children with disabilities, including military-connected children with disabilities, the Department is funding school-based models of equitable family engagement that systemically involve underserved families of children with disabilities as partners and leaders in creating more equitable and inclusive schools that are responsive to the families' priorities, strengths, and needs.

Priority

The purpose of this priority is to fund four cooperative agreements to establish and operate evidence-based ⁴ model demonstration projects. The models must implement sustainable, schoolwide policies, practices, and strategies that systemically engage underserved families ⁵ of children with disabilities as partners and leaders in creating more equitable and inclusive schools that lead to improved outcomes for children with disabilities.

⁴ For purposes of this priority, “evidence-based” means the proposed project component is supported by promising evidence, which is evidence of the effectiveness of a key project component in improving a “relevant outcome” (as defined in 34 CFR 77.1), based on a relevant finding from one of the sources identified under “promising evidence” in 34 CFR 77.1.

⁵ For the purposes of this priority, “underserved families” refers to foster, kinship, migrant, technologically unconnected, and military- or veteran-connected families; and families of color, living in poverty, without documentation of immigration status, experiencing homelessness or housing insecurity, or impacted by the justice system, including the juvenile justice system. Underserved families also refers to families that include: members of a federally or State recognized Indian Tribe; English learners; adults who experience a disability; members who are lesbian, gay, bisexual, transgender, queer or questioning, or intersex (LGBTQI+); adults in need of improving their basic skills or with limited literacy; and disconnected adults.

The models must address the infrastructure (e.g., implementation teams, data systems) and ongoing supports needed to foster the development, implementation, and evaluation of sustainable, schoolwide family engagement ⁶ policies, practices, and strategies that systemically involve underserved families of children with disabilities to create more equitable and inclusive schools that are responsive to the priorities, strengths and needs of underserved families of children with disabilities.

⁶ For the purposes of this priority, “family engagement” refers to the systematic inclusion of families in activities and programs that promote children's development, learning, and wellness, including in the planning, development, and evaluation of such activities, programs, and systems.

The models must demonstrate methods for identifying evidence-based strategies that build the capacity of school personnel and underserved families of children with disabilities to jointly develop and implement sustainable, equitable, and inclusive systemic change.

The models must capture information about challenges to implementation and determine what system supports may assist in meeting those challenges. Additionally, the models must use data to provide information about how the models affect family engagement policies, strategies, and practices within schools; school personnel's capacity to engage with underserved families of children with disabilities and their communities; underserved families' engagement and leadership in school activities; and systemic change that leads to more equitable and inclusive schools that improve outcomes for underserved children with disabilities.

The model demonstration projects must assess how models can—

(a) Increase the sustainable implementation of school policies, strategies, and practices that support the engagement of underserved families of children with disabilities;

(b) Increase the capacity of school personnel, underserved families of children with disabilities and their communities to build trusting relationships that support children with disabilities' learning and achievement;

(c) Increase the capacity of underserved families of children with disabilities to be leaders in partnership with school personnel in setting policy, making decisions, and implementing practices;

(d) Increase the engagement of underserved families of children with disabilities and their children with disabilities in school and extracurricular activities; and

(e) Improve the academic, social, emotional, and behavioral development and outcomes for underserved children with disabilities; increase access for underserved children with disabilities to general education and extracurricular activities with their peers without disabilities; and decrease disproportionality in the identification, placement, and discipline of underserved children with disabilities.

Applicants must propose models that meet the following requirements:

(a) The model's core intervention components must include—

(1) Family engagement practices based on evidence;

(2) Practices to build the capacity of underserved families of children with disabilities to engage with school personnel and act as leaders in systemic change;

(3) Practices to build the capacity of school personnel to engage with underserved families of children with disabilities and their communities;

(4) Practices that enable school personnel, underserved families of children with disabilities and their communities to jointly develop and implement systemic changes reflective of families' priorities, strengths, and needs;

(5) Methods for implementing capacity building activities for school personnel and underserved families of children with disabilities and their communities;

(6) Methods for measuring the impact of the model, including fidelity measures on the implementation of the practices, and data on increased equitable engagement between school personnel and underserved families of children with disabilities; decreased disproportionate application of practices in identification, placement, and discipline for underserved children with disabilities; and improved outcomes of children with disabilities;

(7) Measures of the model's social validity, i.e., measures of school personnel's and underserved families', satisfaction with the model components, processes, and outcomes; and

(8) Procedures to refine the model based on data from the ongoing fidelity measures on the implementation of the practices, and the data collected on improved outcomes and increased capacity.

(b) The model's core implementation components must include—

(1) Criteria and strategies used to select ⁷ and recruit a minimum of three sites, which include demographic information, community context, and school initiatives, including approaches to introducing the model to, and promoting the model among, site participants.⁸ Applicants are encouraged to choose sites in a variety of communities (e.g., urban, rural, suburban). The sites must include various families and underserved families, whether defined by race, ethnicity, socioeconomic status, religious affiliation, family composition, or military connection among others; and have the need to improve equity and inclusion as demonstrated by disproportionality in the identification, placement, discipline, or outcomes of underserved children with disabilities. The selected sites can include any combination of grades from Pre-K through high school.

⁷ For factors to consider when selecting model demonstration sites, the applicant should refer to Assessing Sites for Model Demonstration: Lessons Learned for OSEP Grantees at mdcc.sri.com/documents/MDCC_Site_Assessment_Brief_09-30-11.pdf. The document also contains a site assessment tool.

⁸ For factors to consider when preparing for model demonstration implementation, the applicant should refer to Preparing for Model Demonstration Implementation at mdcc.sri.com/documents/MDCC_PreparationStage_Brief_Apr2013.pdf.

(2) A staggered implementation design, which allows for model development and refinement at the first site in year one of the project period, with sites two and three implementing a revised model based on data from the first site beginning in subsequent project years;

(3) A professional development component that includes a strategy to work with school personnel and underserved families of children with disabilities, to enable sites to implement, with fidelity, models of schoolwide equitable family engagement that systemically involve underserved families of children with disabilities as partners and leaders; and

(4) Measures of the results of the professional development required by paragraph (b)(3) of this section.

(c) The core strategies for sustaining the model must include—

(1) Procedures and materials that permit current and future site-based staff to replicate or appropriately tailor and sustain the model at any site;

(2) Guidelines and procedures to—

(i) Provide professional development activities to build school personnel's capacity to systematically and equitably engage with underserved families of children with disabilities, and build underserved families' leadership capacity;

(ii) Implement system changes to improve equitable engagement and shared leadership between school personnel and underserved families of children with disabilities;

(iii) Administer activities that allow underserved families of children with disabilities to take on leadership roles within schools;

(iv) Identify and establish collaborations with the communities to which the underserved families belong;

(v) Identify the strengths, needs, and priorities of underserved families of children with disabilities through the collaborative collection and analysis of data by school personnel and underserved families of children with disabilities and their communities;

(vi) Create and implement sustainable, equitable, and inclusive systemic changes that reflect the strengths, needs, and priorities of underserved families of children with disabilities; and

(vii) Collect, analyze, and use data regarding the engagement of underserved children with disabilities in schools and the impact of that engagement on—

(A) Academic, social, emotional, and behavioral development and outcomes for underserved children with disabilities;

(B) Increased access for underserved children with disabilities to general education and extracurricular activities with their peers without disabilities; and

(C) Decreased disproportionality in the identification, placement, and discipline of underserved children with disabilities;

(3) Strategies for the grantee to develop a manual, toolkit and other user-friendly and widely accessible resources for disseminating information on the final version of the model by the end of the grant period, such as developing easily accessible online products that specify model core components critical for improving outcomes, professional development materials, fidelity measures, key outcomes from the model (e.g. increases in the equity of referrals), and implementation procedures for disseminating the model and its components; and

(4) Strategies for the grantee to assist schools and school districts to scale up a model and its components.

To be considered for funding under this absolute priority, applicants must meet the requirements contained in this priority.

Application Requirements

An applicant must include in its application—

(a) A detailed review of the literature addressing the proposed evidence-based model or its implementation components and the proposed processes to develop equitable and schoolwide family engagement with underserved families of children with disabilities that systemically involve them as partners and leaders;

(b) A logic model ⁹ that depicts, at a minimum, the goals, activities, outputs, and outcomes (described in the requirements in paragraph (a) under the heading Priority) of the proposed model demonstration project.

⁹ As defined in 34 CFR 77.1, “logic model” (also referred to as a theory of action) means a framework that identifies key project components of the proposed project (i.e., the active “ingredients” that are hypothesized to be critical to achieving the relevant outcomes) and describes the theoretical and operational relationships among the key project components and relevant outcomes.

Note: The following websites provide resources for constructing logic models: https://osepideasthatwork.org/sites/default/files/2021-12/ConceptualFramework_Updated.pdf and www.osepideasthatwork.org/resources-grantees/program-areas/ta-ta/tad-project-logic-model-and-conceptual-framework;

(c) A description of the activities and measures to be incorporated into the proposed model demonstration project (i.e., the project design) to develop equitable and schoolwide family engagement with underserved families of children with disabilities that systemically involve them as partners and leaders. A detailed and complete description must include the following:

(1) Each of the capacity building, collaboration, and data gathering components;

(2) The existing and proposed measures of fidelity of the implementation of equitable and schoolwide family engagement and capacity building activities as well as social validity measures. The measures must be described as completely as possible, referenced as appropriate, and included, when available, in Appendix A;

(3) Each of the implementation components, including, at a minimum, those listed under requirements paragraph (b) under the heading Priority. The existing or proposed implementation fidelity measures must be described as completely as possible, referenced as appropriate, and included, when available, in Appendix A. In addition, this description must include—

(i) Demographics of the sites that have been identified and successfully recruited as implementation sites for the purposes of completing an application using the selection and recruitment strategies described in requirements paragraph (b)(1) under the heading Priority. The demographic data should include the race and ethnicity, socioeconomic status, military connectedness, and primary home language of all families; the number of families of children with disabilities in the schools' catchment area, and the larger school community; and indicators of the extent to which schools are equitable and inclusive, including identification rates for special education, placement data, discipline data, and outcomes of underserved children with disabilities;

Note: Applicants are encouraged to identify, to the extent possible, the sites willing to participate in the applicant's model demonstration. Final site selection will be determined in consultation with the Office of Special Education Programs (OSEP) project officer following the kick-off meeting described in paragraph (f)(1) of these application requirements; and

(ii) The staggered implementation design for implementation consistent with the requirements in paragraph (b)(2) under the heading Priority;

(4) Each of the strategies to promote sustaining and replicating the model, including, at a minimum, those listed under requirements paragraph (c) under the heading Priority; and

(5) The cost of the fully developed model and its implementation, including the resources used by the model as well as their actual or estimated costs; ¹⁰

¹⁰ See the IES Cost Analysis Starter Kit at https://ies.ed.gov/seer/cost_analysis.asp.

(d) A description of the evaluation activities and measures to be incorporated into the proposed model demonstration project. A detailed and complete description must include—

(1) A formative evaluation plan, consistent with the project's logic model, that includes evaluation questions, sources of data, a timeline for data collection, and analysis plans. The plan must show how the outcome data (e.g., engagement, capacity, and social validity measures) and implementation data (e.g., fidelity, effectiveness of school personnel professional development and capacity building activities, effectiveness of family capacity building, and effectiveness of activities that result in systemic changes) will be used separately or in combination to improve the project during the project period. These data will be reported in the annual performance report (APR). The plan also must outline how these data will be reviewed by project staff, when they will be reviewed, and how they will be used during the course of the project to adjust the model or its implementation to increase the model's usefulness, generalizability, and potential for sustainability; and

(2) A summative evaluation plan, including a timeline, to collect and analyze data on changes in the engagement of underserved families of children with disabilities, student outcomes, and systems improvements over time that can be reasonably attributable to project activities. The plan must show how the family, student, or system outcome and implementation data collected by the project will be used separately or in combination to demonstrate the promise of the model;

(e) A plan to disseminate the results of the project, including the findings that show the model had a beneficial effect on outcomes, the final version of the implemented model, and its associated products (such as curricula, professional development materials, implementation procedures, measures and assessments, guides, and toolkits). The dissemination plan must include the audiences who would most likely benefit from implementing the model and detailed strategies for reaching these audiences.

(1) In disseminating the results of the project, grantees must, at a minimum, conduct at least four of the following six activities:

(i) Promote the model to potential users through the grant's website or social media;

(ii) Promote the model to potential users through presentations at national meetings or conferences or publishing journal articles;

(iii) Promote the model in personnel preparation programs at institutions of higher education;

(iv) Promote the model to Department-funded dissemination networks (e.g., OSEP TA Centers, Regional Education Labs, Comprehensive Centers);

(v) Provide training on model implementation to State educational agencies (SEAs), local educational agencies (LEAs), schools, early childhood programs or other new sites; and

(vi) Apply for additional funding to continue model dissemination and scale up to new sites.

(2) To facilitate implementation of the model in new sites, grantees may also consider collaborating with OSEP-funded TA centers, personnel preparation programs, and OSEP-funded State Personnel Development Grant projects; providing webinars, training sessions, or workshops to State and local agencies; and engaging with other federally funded TA centers, research networks, or Regional Educational Laboratories; and

(f) A budget for attendance at the following:

(1) A one and one-half day virtual kickoff meeting, after receipt of the award;

(2) A three-day project directors' conference in Washington, DC, during each year of the project period. The project must reallocate funds for travel to the project directors' conference no later than the end of the third quarter of each budget period if the conference is conducted virtually; and

(3) Four travel days spread across years two through four of the project period to attend planning meetings, Department briefings, Department-sponsored conferences, and other meetings, as requested by OSEP.

Other Project Activities

To meet the requirements of this priority, each project, at a minimum, must—

(a) Communicate and collaborate on an ongoing basis with other Department-funded projects, consistent with paragraph (e) under the heading Application Requirements;

(b) Maintain ongoing telephone and email communication with the OSEP project officer and the other model demonstration projects funded under this priority;

(c) Provide information annually using a template that captures descriptive data on project site selection and the process of implementing the model in the sites.

Note: The following website provides more information about implementation research: https://implementation.fpg.unc.edu/.

(d) If the project maintains a website, include relevant information about the model, the intervention, and the demonstration activities and ensure that the website meets or exceeds government- or industry-recognized standards for accessibility; and

(e) Ensure that annual progress toward meeting project goals is posted on a public website.

Fifth Year of Project

The Secretary may extend a project one year beyond the initial 48 months to disseminate the results of the project if the grantee is achieving the intended outcomes of the project (as demonstrated by data gathered as part of the project evaluation) and making a positive contribution to identifying the system supports needed to implement the model. Each applicant must include in its application a plan for the full 60-month period. The fifth year should be budgeted at $100,000. In deciding whether to continue funding the project for the fifth year, the Secretary will consider the requirements of 34 CFR 75.253(a), including—

(a) The recommendations of a review team consisting of the OSEP project officer and other experts who have experience and knowledge in family engagement and children with disabilities. This review will be held during the first half of the fourth year of the project period;

(b) The success and timeliness with which the requirements of the negotiated cooperative agreement have been or are being met by the project; and

(c) The degree to which the project's activities have contributed to changed practices and improved outcomes for children with disabilities.

Competitive Preference Priority: Within this absolute priority, we give competitive preference to applications that address the following priority. Under 34 CFR 75.105(c)(2)(i), we award up to an additional 9 points to an application that meets the competitive preference priority. Applicants should indicate in the abstract whether the competitive preference priority is addressed.

The competitive preference priority is:

Models in Schools with High Percentages of Military-Connected Students (0, 5, 7, or 9 points).

(a) Under this priority, applicants will receive five points if they propose to locate one site for the model in a school with a high percentage of military-connected ¹¹ students, seven points if they propose to locate two sites for the model in schools with a high percentage of military-connected students, and nine points if they propose to locate three or more sites for the model in schools with a high percentage of military-connected students. Applicants must include a letter of commitment from the proposed sites describing how the unique needs of military-connected families—including simplifying and streamlining the onboarding process into the new school system, facilitating the transfer of IEPs without a major disruption in service delivery, and providing required services to children without disruptions in educational programming—will be addressed in the implementation of the model.

¹¹ A military-connected student is defined as a student whose parent or guardian is on active duty, in the National Guard, or in the Reserve components of the United States military services.

(b) For the purpose of this priority, a high percentage of military-connected students is 20 percent or higher of the school population.

References

Baquedano-Lopez, P., Alexander, R.A., & Hernandez, S.J. (2013). Equity issues in parental and community involvement in schools: What teacher educators need to know. Review of Research in Education, 37, 149-182. www.jstor.org/stable/24641960.

Buren, M., Maggin, D., & Brown, C. (2020). Meta-synthesis on the experiences of families from nondominant communities and special education collaboration. Exceptionality, 28(4), 259-278. https://doi.org/10.1080/09362835.2018.1480953.

Doucet, F. (2011). (Re)Constructing home and school: Immigrant parents, agency, and the (un)desirability of bridging multiple worlds. Teachers College Record, 113(12), 2705-2738. https://doi.org/10.1177/016146811111301201.

Dyrness, A. (2009). Cultural exclusion and critique in the era of good intentions: Using participatory research to transform parent roles in urban school reform. Social Justice, 36(4)(118), 36-53. www.jstor.org/stable/29768560.

Fan, X., & Chen, M. (2001). Parental involvement and students' academic achievement: A meta-analysis. Educational Psychology Review, 13(1), 1-22. www.jstor.org/stable/23358867.

Henderson, A.T., & Mapp, K.L. (2002). A new wave of evidence: The impact of school, family, and community connections on student achievement. National Center for Family and Community Connections with Schools, Southwest Educational Development Laboratory. https://eric.ed.gov/?id=ED536946.

Hill, N.E., & Tyson, D.F. (2009). Parental involvement in middle school: A meta-analytic assessment of the strategies that promote achievement. Development Psychology, 45(3), 740-763. https://doi.org/10.1037/a0015362.

Ishimaru, A.M. (2020). Just schools: Building equitable collaborations with families and communities. Teachers College Press.

Jeynes, W.H. (2005). A meta-analysis of the relation of parental involvement to urban elementary school student academic achievement. Urban Education, 40(3), 237-269. https://doi.org/10.1177/0042085905274540.

Jeynes, W.H. (2007). The relationship between parental involvement and urban secondary school student academic achievement: A meta-analysis. Urban Education, 42(1), 82-110. https://doi.org/10.1177/0042085906293818.

Jeynes, W.H. (2012). A meta-analysis of the efficacy of different types of parental involvement programs for urban students. Urban Education, 47(4), 706-742. https://doi.org/10.1177/0042085912445643.

Kim, S.W., & Hill, N.E. (2015). Including fathers in the picture: A meta-analysis of parental involvement and students' academic achievement. Journal of Educational Psychology, 107(4), 919-934. https://doi.org/10.1037/edu0000023.

Kramarczuk Voulgarides, C., Fergus, E., & King Thorius, K.A. (2017). Pursuing equity: Disproportionality in special education and the reframing of technical solutions to address systemic inequities. Review of Research in Education, 41(1), 61-87. https://doi.org/10.3102/0091732X16686947.

Lareau, A., & Horvat, E.M. (1999). Moments of social inclusion and exclusion race, class, and cultural capital in family-school relationships. Sociology of Education, 72(1), 37-53. https://doi.org/10.2307/2673185.

Olivos, E.M. (2006). The power of parents: A critical perspective of bicultural parent involvement in public schools. Peter Lang New York.

Xu, Y. (2020). Engaging families of young children with disabilities through family-school-community partnerships. Early Child Development and Care, 190(12), 1959-1968. https://doi.org/10.1080/03004430.2018.1552950.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1463 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: The Administration has requested $55,345,000 for the Technical Assistance and Dissemination to Improve Services and Results for Children with Disabilities program for FY 2024, of which we intend to use an estimated $1,600,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $300,000 to $400,000.

Estimated Average Size of Awards: $350,000.

Maximum Award: We will not make an award exceeding $1,600,000 per project for a project period of 60 months.

Note: Applicants must describe, in their applications, the amount of funding being requested for each 12-month budget period. The fifth-year budget period should be budgeted at $100,000.

Estimated Number of Awards: 4.

Note: The Department is not bound by any estimates in this notice.

Project Period: Up to 60 months.

III. Eligibility Information

1. Eligible Applicants: SEAs; LEAs, including charter schools that are considered LEAs under State law; IHEs; other public agencies; private nonprofit organizations; outlying areas; freely associated States; Indian Tribes or Tribal organizations; and for-profit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The potential contribution of the proposed project to increased knowledge or understanding of educational problems, issues, or effective strategies;

(ii) The extent to which the proposed project is likely to build local capacity to provide, improve, or expand services that address the needs of the target population;

(iii) The importance or magnitude of the results or outcomes likely to be attained by the proposed project, especially improvements in teaching and student achievement; and

(iv) The likely utility of the products (such as information, materials, processes, or techniques) that will result from the proposed project, including the potential for their being used effectively in a variety of other settings.

(b) Quality of the project design (35 points).

(1) The Secretary considers the quality of the design of the proposed project.

(2) In determining the quality of the design of the proposed project, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The quality of the proposed demonstration design and procedures for documenting project activities and results;

(iv) The extent to which the design for implementing and evaluating the proposed project will result in information to guide possible replication of project activities or strategies, including information about the effectiveness of the approach or strategies employed by the project; and

(v) The extent to which performance feedback and continuous improvement are integral to the design of the proposed project.

(c) Adequacy of resources and quality of the management plan (25 points).

(1) The Secretary considers the adequacy of resources and the quality of the management plan for the proposed project.

(2) In determining the adequacy of resources and the quality of the management plan for the proposed project, the Secretary considers the following factors:

(i) The adequacy of support, including facilities, equipment, supplies, and other resources, from the applicant organization or the lead applicant organization;

(ii) The relevance and demonstrated commitment of each partner in the proposed project to the implementation and success of the project;

(iii) The extent to which the time commitments of the project director and principal investigator and other key project personnel are appropriate and adequate to meet the objectives of the proposed project;

(iv) How the applicant will ensure that a diversity of perspectives are brought to bear in the operation of the proposed project, including those of parents, teachers, the business community, a variety of disciplinary and professional fields, recipients or beneficiaries of services, or others, as appropriate; and

(v) The adequacy of the management plan to achieve the objectives of the proposed project on time and within budget, including clearly defined responsibilities, timelines, and milestones for accomplishing project tasks.

(d) Quality of the project evaluation (25 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation will provide performance feedback and permit periodic assessment of progress toward achieving intended outcomes;

(iii) The extent to which the methods of evaluation provide for examining the effectiveness of project implementation strategies;

(iv) The extent to which the evaluation will provide guidance about effective strategies suitable for replication or testing in other settings; and

(v) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an APR that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection, analysis, and reporting. In this case the Secretary establishes a data collection period.

5. Performance Measures: For the purposes of Department reporting under 34 CFR 75.110, the Department has established a set of performance measures, including long-term measures, that are designed to yield information on various aspects of the effectiveness and quality of the Model Demonstration Projects to Improve Services and Results for Infants, Toddlers, and Children with Disabilities under the Technical Assistance and Dissemination to Improve Services and Results for Children With Disabilities program. These measures are:

• Current Program Performance Measure: The percentage of effective evidence-based program models developed by model demonstration projects that are promoted to States and their partners through the Technical Assistance and Dissemination Network;

• Pilot Program Performance Measure: The percentage of effective program models developed by Model Demonstration Grants that are sustained beyond the life of the model demonstration project and promoted to other potential users.

The current program performance measure and the pilot program performance measure apply to projects funded under this competition, and grantees are required to submit data on these measures as directed by OSEP.

Grantees will be required to report information on their project's performance in annual and final performance reports to the Department (34 CFR 75.590).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Danté Allen,
Commissioner, Rehabilitation Services Administration, Office of Special Education and Rehabilitative Services.

[FR Doc. 2024-02973 Filed 2-13-24; 8:45 am]

BILLING CODE 4000-01-P